DEPARTMENT OF THE INTERIOR

Fish and Wildlife Service

Construction of a Residential Community in Lake County, FL

AGENCY: Fish and Wildlife Service, Interior.

ACTION: Notice: Receipt of application for an incidental take permit; request for comments.

SUMMARY: We, the Fish and Wildlife Service (Service), announce the availability of an Incidental Take Permit (ITP) Application and Habitat Conservation Plan (HCP). Zenodro Homes, Inc. (applicant) requests an ITP for a duration of 10 years under the Endangered Species Act of 1973, as amended (Act). The applicant anticipates taking approximately 3.5 acres of sand skink (Neoseps reynoldsi)—occupied habitat incidental to constructing a 100-unit multi-family development in Lake County, Florida (project). The applicant's HCP describes the mitigation and minimization measures the applicant proposes to address the effects of the project to the sand skink.

DATES: We must receive any written comments on the ITP application and HCP on or before October 9, 2007.

ADDRESSES: If you wish to review the application and HCP, you may write the Field Supervisor at our Jacksonville Field Office, 6620 Southpoint Drive South, Suite 310, Jacksonville, FL 32216, or make an appointment to visit during normal business hours. If you wish to comment, you may mail or hand deliver comments to the Jacksonville Field Office, or you may e-mail comments to paula_sisson@fws.gov. For more information on reviewing documents and public comments and submitting comments, see SUPPLEMENTARY INFORMATION.

FOR FURTHER INFORMATION CONTACT: Paula Sisson, Fish and Wildlife Biologist, Jacksonville Field Office (see ADDRESSES); telephone: 904/232-2580, ext. 126.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Please reference permit number TE132333-0 for Zenodro Homes, Inc. in all requests or comments. Please include your name and return address in your e-mail message. If you do not receive a confirmation from us that we have received your e-mail message, contact us directly at the telephone number listed under FOR FURTHER INFORMATION CONTACT.

Background

The sand skink is known to occur in Lake County, primarily within the Lake Wales Ridge, and much less frequently within the Mt. Dora Ridge. Although originally thought to inhabit xeric, scrub habitat exclusively, the sand skink is currently being identified in nontraditional areas with sub-marginal habitat, including pine plantation, abandoned citrus groves, and disturbed areas. Sand skinks require soil moisture for thermoregulation, egg incubation, and prey habitat. High activity periods, which have been associated with the breeding season for this species, range from mid-February to early May, with egg-hatching typically occurring from June through July. Due to the reduction in quality and acreage and the rapid development of xeric upland communities, the sand skink is reportedly declining throughout most of its range. However, biological information regarding the sand skink is limited, due to the cryptic nature of the species.

Applicant's Proposal

The applicant is requesting take of approximately 3.5 ac of occupied sand skink habitat incidental to the project. The 10-acre project is located approximately 1.25 miles northeast of the intersection of U.S. Highway 192 and U.S. Highway 27 within Section 25, Township 24 South, Range 26 East. The project currently includes 100 units (25 buildings with 4 units per building), associated infrastructure, and a stormwater retention pond encompassing 10.0 ac. The applicant proposes to mitigate for 3.5 ac of impacts by purchasing 7.0 ac of occupied sand skink habitat at the Morgan Lake Wales Preserve (Preserve) in Polk County. The Preserve lies within the boundaries of the Lake Wales Ridge and covers approximately 487 ac. The occupied sand skink habitat identified for this project will be protected under a conservation easement and a trust fund has been established for perpetual management.

We have determined that the applicant's proposal, including the proposed mitigation and minimization measures, would have minor or negligible effects on the species covered in the HCP. Therefore, the ITP is a “low-effect” project and qualifies for categorical exclusions under the National Environmental Policy Act (NEPA), as provided by the Department of the Interior Manual (516 DM 2 Appendix 1 and 516 DM 6 Appendix 1). This preliminary information may be revised based on our review of public comments that we receive in response to this notice. A low-effect HCP is one involving (1) minor or negligible effects on federally listed or candidate species and their habitats, and (2) minor or negligible effects on other environmental values or resources.

We will evaluate the HCP and comments submitted thereon to determine whether the application meets the requirements of section 10(a) of the Act (16 U.S.C. 1531 et seq.). If we determine that the application meets those requirements, we will issue the ITP for incidental take of the sand skink. We will also evaluate whether issuance of the section 10(a)(1)(B) ITP complies with section 7 of the Act by conducting an intra-Service section 7 consultation. We will use the results of this consultation, in combination with the above findings, in the final analysis to determine whether or not to issue the ITP.

Authority: We provide this notice under Section 10 of the Act and NEPA regulations (40 CFR 1506.6).

Dated: August 30, 2007.
David L. Hankla,
Field Supervisor, Jacksonville Field Office.

[FR Doc. E7-17598 Filed 9-5-07; 8:45 am]

BILLING CODE 4310-55-P